DEPARTMENT OF AGRICULTURE

Commodity Credit Corporation

Notice of Request for Extension and Revision of Currently Approved Information Collections

AGENCY: Commodity Credit Corporation, USDA.

ACTION: Notice and request for comments.

SUMMARY: In accordance with the Paperwork Reduction Act of 1995, this notice announces the Commodity Credit Corporation's (CCC) intention to request an extension for, and revision to, currently approved information collections in support of the regulations governing the foreign donation of agricultural commodities under the section 416(b) and Food for Progress programs, and the McGovern-Dole International Food for Education and Child Nutrition Program, based on re-estimates.

DATES: Comments on this notice must be received by January 30, 2004.

ADDITIONAL INFORMATION OR COMMENTS: Contact William S. Hawkins, Director, Program Administration Division, Foreign Agricultural Service, U.S. Department of Agriculture, Stop 1031, Washington, DC 20250-1031, telephone (202) 720-3241 or e-mail at william.hawkins@fas.usda.gov.

SUPPLEMENTARY INFORMATION: Title: Foreign Donation of Agricultural Commodities (Foreign Donation) and McGovern-Dole International Food for Education and Child Nutrition Program (Food for Education).

OMB Number: 0551-0035: Foreign Donation of Agricultural Commodities and 0551-0039: McGovern-Dole International Food for Education and Child Nutrition Program. These will be combined into OMB Number 0551-0035 if this request is approved.

Expiration Date of Approval: (0551-0035) February 29, 2004 and (0551-0039) June 30, 2006.

Type of Request: Extension and revision of currently approved information collections, with change to combine 0551-0035 (Foreign Donation) and 0551-0039 (Food for Education).

Abstract: Under both Foreign Donation of Agricultural Commodities and the McGovern-Dole International Food for Education and Child Nutrition Program, information will be gathered from applicants desiring to receive grants under the programs to determine the viability of requests for resources to implement activities in foreign countries. Applicants that receive grants must submit compliance reports until commodities or local currencies generated from the sale thereof are utilized. Shipping agents must submit information and certifications regarding their activities and affiliations. Documents are used to develop effective grant agreements and assure statutory requirements and objectives are met.

Estimate of Burden: The public reporting burden for each respondent resulting from information collection under the Foreign Donation Program or the Food for Education Program varies in direct relation to the number and type of agreements entered into by such respondent. The estimated average reporting burden for the Foreign Donation of Agricultural Commodities is 11 hours per response and for the Food for Education Program is 11 hours per response.

Respondents: U.S. private voluntary organizations, U.S. cooperatives, foreign governments, shipping agents, ship owners and brokers, and survey companies.

Estimated Number of Respondents: 241 per annum.

Estimated Number of Responses per Respondent: 19 per annum.

Estimated Total Annual Burden of Respondents: 50,369 hours.

Copies of this information collection can be obtained from Kimberly Chisley, the Agency Information Collection Coordinator, at (202) 720-2568 or e-mail at Kimberly.Chisley@usda.gov.

Requests for comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology.

Comments may be sent to William S. Hawkins, Director, Program Administration Division, FAS, USDA, Stop 1031, Washington, DC 20250, or william.hawkins@fas.usda.gov, or to the Desk Officer for Agriculture, Office of Information and Regulatory Affairs, Office of Management and Budget (OMB), Washington, DC 20503. Persons with disabilities who require an alternative means for communication of information (Braille, large print, audiotape, etc.) should contact USDA's Target Center at (202) 720-2600 (voice and TDD).

All responses to this notice will be summarized and included in the request for OMB approval. All comments will also become a matter of public record.

Signed at Washington, DC, on November 24, 2003.
Kenneth J. Roberts,
Administrator, Foreign Agricultural Service.

[FR Doc. 03-29803 Filed 11-28-03; 8:45 am]

BILLING CODE 3410-10-M